FEDERAL COMMUNICATIONS COMMISSION

47 CFR Part 90

[WT Docket No. 02-55; DA 03-19]

Supplemental Comments of the Consensus Parties Filed in the 800 MHz Public Safety Interference Proceeding; Request for Comments

AGENCY: Federal Communications Commission.

ACTION: Proposed rule; request for comments.

SUMMARY: This document seeks comment on “Supplemental Comments of the Consensus Parties” filed in the 800 MHz Public Safety Interference Proceeding—WT Docket No. 02-55. The Bureau, by this action, affords interested parties an opportunity to submit comments and reply comments that will improve public safety operations in the 800 MHz band. Improving public safety operations in the 800 MHz band will reduce interference experienced by 800 MHz public safety operators.

DATES: Comments are due on or before February 3, 2003 and Reply Comments are due on or before February 18, 2003.¹

¹ This document was received at the Office of the Federal Register on February 5, 2003.

ADDRESSES: Federal Communications Commission 445, 12th Street, SW., TW-A325, Washington, DC 20554. See Supplementary Information for filing instructions.

FOR FURTHER INFORMATION CONTACT: Karen Franklin, Esq. or Michael J. Wilhelm, Esq., Policy and Rules Branch, Public Safety and Private Wireless Division at (202) 418-0680.

SUPPLEMENTARY INFORMATION: This is a summary of the Commission's Public Notice, DA 03-19, released on January 3, 2003. The full text of this document is available for inspection and copying during normal business hours in the FCC Reference Center, 445 12th Street, SW., Washington, DC 20554. The complete text may be purchased from the Commission's copy contractor, Qualex International, 445 12th Street, SW., Room CY-B402, Washington, DC. 20554. The full text may also be downloaded at: www.fcc.gov. Alternative formats are available to persons with disabilities by contacting Brian Millin at (202) 418-7426 or TTY (202) 418-7365 or at bmillin@fcc.gov.

On December 24, 2002, a group of sixteen parties filed “Supplemental Comments of the Consensus Parties” in WT Docket 02-55, Improving Public Safety Communications in the 800 MHz Band—Consolidating the 900 MHz Industrial/Land Transportation and Business Pool Channels (67 FR 16351, April 5 2002). ² In these comments, the parties provide additional details concerning the “Consensus Plan” for addressing interference issues in the 800 MHz band. In order to develop a full and complete record, the Wireless Telecommunications Bureau issues this public notice seeking comment on the Supplemental Comments of the Consensus Parties (Supplemental Comments). The Commission will accept comments on the Supplemental Comments on or before February 3, 2003; and reply comments on or before February 18, 2003.

² Subsequent to issuance of the public notice, the comment and reply comment dates were extended to February 10, 2003 and February 25, 2003, respectively (published elsewhere in this issue). See Improving Public Safety Communications in the 800 MHz Band and Consolidating the 800 MHz Industrial Land Transportation and Business Pool Channels, Order Extending Time for Filing of Comments, WT Docket 02-55, DA 03-163 (January 16, 2003)

The Supplemental Comments primarily address four issues: (1) Funding for the Consensus Plan; (2) procedures and processes for relocating 800 MHz incumbents; (3) post-realignment interference protection standards; and (4) border area realignment plans.

Interested parties may view the “Supplemental Comments of the Consensus Parties” on the Commission's Electronic Comment Filing System (ECFS) using the following steps: (1) Access ECFS at http://www.fcc.gov/e-file/ecfs.html. (2) In the introductory screen, click on “Search for Filed Comments.” (3) In the “Proceeding” box, enter “02-55.” (4) In the “Filed on Behalf of” box, enter “Consensus Parties.” (5) In the “Date Submitted” box, enter “12/24/2002.” In addition, the Supplemental Comments of the Consensus Parties will be available for inspection and duplication during regular business hours in the FCC Reference Information Center (RIC) of the Consumer and Governmental Affairs Bureau, Federal Communications Commission, 445 12th Street, SW., Room CY-A257, Washington, DC 20554. Copies of the Supplemental Comments of the Consensus Parties also may be purchased from the Commission's duplicating contractor, Qualex International, Portals II, 445 12th Street, SW., Room CY-B402, Washington, DC 20554, (202) 863-2893, facsimile (202) 863-2898, or via e-mail qualexint@aol.com. For further information regarding the public reference file for this Public Notice, contact Maria Ringold, Chief, Wireless Branch, RIC, (202) 418-1355, with reference to the DA number of this Public Notice.

Comments may be filed using the ECFS or by filing paper copies. See Electronic Filing of Documents in Rule Making Proceedings, 63 Fed. Reg. 24121 (1988). Comments filed through the ECFS can be sent as an electronic file via the Internet to http://www.fcc.gov/e-file/ecfs.html. In completing the transmittal screen, commenters should include their full name, U.S. Postal Service mailing address, and the docket number “02-55.”

Parties may also submit an electronic comment by Internet e-mail. To get filing instructions for e-mail comments, commenters should send an e-mail to ecfs@fcc.gov, and should include the following words in the body of the message: “get form <your e-mail address>.” A sample form and directions will be sent in reply. Parties who choose to file by paper must file an original and four copies of each filing. Filings can be sent by hand or messenger delivery, by commercial overnight courier, or by first-class or overnight U.S. Postal Service mail. The Commission's contractor, Vistronix, Inc., will receive hand-delivered or messenger-delivered paper filings for the Commission's Secretary at 236 Massachusetts Ave., NE., Suite 110, Washington, DC 20002. The filing hours at this location are 8 a.m. to 7 p.m. All hand deliveries must be held together with rubber bands or fasteners. Any envelopes must be disposed of before entering the building. Commercial overnight mail (other than U.S. Postal Service Express Mail or Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

Federal Communications Commission.
D'wana R. Terry,
Chief, Public Safety and Private Wireless Division, Wireless Telecommunications Bureau.

[FR Doc. 03-3276 Filed 2-6-03; 3:02 pm]

BILLING CODE 6712-01-P